ENVIRONMENTAL PROTECTION AGENCY

[FRL -7423-1]

Intent to Grant a Co-Exclusive Patent License

AGENCY: Environmental Protection Agency (EPA).

ACTION: Notice of intent to grant a co-exclusive patent license.

SUMMARY: Pursuant to 35 U.S.C. 207 and 37 CFR part 404, EPA hereby gives notice of its intent to grant a co-exclusive, royalty-bearing, revocable license to practice the invention described and claimed in the patents listed below, all corresponding patents issued throughout the world, and all reexamined patents and reissued patents granted in connection with such patents, to Sensors, Inc., Saline, Michigan and to Horiba Instruments, Inc., Irvine, California, including its parent, subsidiaries, affiliates and companies controlled by Horiba. The patents are:

U.S. Patent No. 6,148,656, entitled “Real-time On-road Vehicle Exhaust Gas Modular Flowmeter and Emissions Reporting System,” issued November 21, 2000.

U.S. Patent No. 6,382,014, entitled “Real-time On-road Vehicle Exhaust Gas Modular Flowmeter and Emissions Reporting System,” issued May 7, 2002.

U.S. Patent No. 6,470,732, entitled “Real-time Exhaust Gas Modular Flowmeter and Emissions Reporting System for Mobile Apparatus,” issued October 29, 2002.

The invention was announced as being available for licensing in the March 1, 1999 issue of the Federal Register (64 FR 9990) as U.S. Patent Application No. 09/226,920, filed January 5, 1999, and claiming priority from a provisional application filed January 5, 1998.

The proposed co-exclusive license will contain appropriate terms, limitations, and conditions to be negotiated in accordance with 35 U.S.C. 209 and 37 CFR 404.5 and 404.7 of the U.S. Government patent licensing regulations.

EPA will negotiate the final terms and conditions and grant the co-exclusive license, unless within 15 days from the date of this notice EPA receives, at the address below, written objections to the grant, together with supporting documentation. The documentation from objecting parties having an interest in practicing the above patents should include an application for an exclusive or nonexclusive license with the information set forth in 37 CFR 404.8. The EPA Patent Counsel and other EPA officials will review all written responses and then make recommendations on a final decision to the Director or Deputy Director of the Office of Transportation and Air Quality, who have been delegated the authority to issue patent licenses under EPA Delegation 1-55.

DATES: Comments on this notice must be received by EPA at the address listed below by January 2, 2003.

FOR FURTHER INFORMATION CONTACT: Alan Ehrlich, Patent Counsel, Office of General Counsel (Mail Code 2377A), Environmental Protection Agency, Washington, DC 20460, Telephone (202) 564-5457.

Dated: December 6, 2002.
Marla E. Diamond,
Associate General Counsel, Finance and Operations Law Office.

[FR Doc. 02-31671 Filed 12-16-02; 8:45 am]

BILLING CODE 6560-50-P